DEPARTMENT OF DEFENSE

Department of the Navy

Notice of Virtual Public Meetings for the Draft Environmental Impact Statement for the Navy Old Town Campus Revitalization

AGENCY: Department of the Navy, DoD.

ACTION: Notice of public meetings.

SUMMARY: Pursuant to the National Environmental Policy Act of 1969, as implemented by the Council on Environmental Quality, the Department of the Navy (DON) has prepared and filed with the United States Environmental Protection Agency a Draft Environmental Impact Statement (EIS) for the Navy Old Town Campus (OTC) Revitalization. The Draft EIS evaluates the potential environmental effects associated with modernization of OTC to support Naval Information Warfare Systems Command's (NAVWAR) current and future operational readiness. This notice announces the public review and comment period, dates of virtual meetings, and includes information on how the public may review and comment on the Draft EIS. Additionally, the public can submit comments on the project's potential to affect historic properties pursuant to Section 106 of the National Historic Preservation Act.

DATES: The 60-day public comment period begins May 14, 2021 and ends July 13, 2021. To be considered in the Final EIS, all comments must be postmarked or received online by 11:59 p.m. Pacific Standard Time on July 13, 2021.

Due to current federal and state guidance on social distancing in response to the COVID-19 pandemic, the DON will hold virtual public meetings to provide information about the proposed action and the draft environmental analysis, and to accept public comments on the Draft EIS. The virtual public meetings will occur as follows:

1. June 8, 2021, 5:30 p.m. to 8 p.m. Pacific Standard Time

2. June 23, 2021, 5:30 p.m. to 8 p.m. Pacific Standard Time

Information on how to participate in the virtual public meetings is available on the project website at www.NAVWAR-revitalization.com.

ADDRESSES: Written comments may be submitted electronically on the project website at www.NAVWAR-revitalization.com or by mail to: Navy OTC Revitalization EIS Project Manager, Attention: Ron Bochenek, 750 Pacific Highway, Floor 12, San Diego, CA 92132-0058.

FOR FURTHER INFORMATION CONTACT: Naval Facilities Engineering Systems Command Southwest, Attention: Ron Bochenek, Navy OTC Revitalization EIS Project Manager, 750 Pacific Highway, Floor 12, San Diego, CA 92132-0058, 888-682-6289, info@NAVWAR-revitalization.com. You can also visit the project website at www.NAVWAR-revitalization.com for more information. Individuals interested in receiving electronic project updates can subscribe on the project website to receive notifications via email for key milestones throughout the environmental planning process.

SUPPLEMENTARY INFORMATION: The DON distributed the Draft EIS to Federal, state, and local agencies and officials, American Indian tribal governments, and other stakeholders. The Draft EIS and informational materials are available on the project website at www.NAVWAR-revitalization.com. The public may also review the Draft EIS and select materials at the following libraries:

1. Mission Hills-Hillcrest/Knox Library (215 West Washington Street, San Diego, CA 92103)

2. Point Loma/Hervey Library (3701 Voltaire Street, San Diego, CA 92107)

3. San Diego Central Library (330 Park Boulevard, San Diego, CA 92101)

Comments on the Draft EIS can be submitted in the following ways: (1) Written comments submitted through the project website; (2) written comments mailed to the address in this notice; and (3) verbal comments provided at the virtual public meetings.

All comments submitted during the 60-day public comment period will become part of the public record, and substantive comments will be considered in the development of the Final EIS. All comments must be postmarked or received online by 11:59 p.m. Pacific Standard Time on July 13, 2021.

Federal, state, and local agencies and officials, American Indian tribal governments, and other interested organizations and individuals are encouraged to provide comments on the Draft EIS during the 60-day public comment period.

Dated: May 7, 2021.
K.R. Callan,
Commander, Judge Advocate General's Corps, U.S. Navy, Federal Register Liaison Officer.

[FR Doc. 2021-10024 Filed 5-13-21; 8:45 am]

BILLING CODE 3810-FF-P